DEPARTMENT OF THE INTERIOR

National Park Service

National Register of Historic Places; Notification of Pending Nominations and Related Actions

Nominations for the following properties being considered for listing or related actions in the National Register were received by the National Park Service before January 10, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 11, 2009.

J. Paul Loether,
Chief, National Register of Historic Places/National, Historic Landmarks Program.

ILLINOIS

Cook County

Independence Park, 3945 N. Springfield Ave., Chicago, 09000023

Inland Steel Building, 30 W. Monroe St., Chicago, 09000024

Spiegel Office Building, 1038 W. 35th St., Chicago, 09000025

Hamilton County

Cloud, Chalon Guard and Emma Blades, House, 300 S. Washington St., McLeansboro, 09000026

Kane County

Wing Park Golf Course, 1000 Wing St., Elgin, 09000027

La Salle County

Hegeler I, Julius W., House, 1306 Seventh St., LaSalle, 09000028

KANSAS

Kiowa County

Robinett, S.D., Building, 148 S. Main, Greensburg, 09000029

Meade County

Fowler Swimming Pool and Bathhouse, (New Deal-Era Resources of Kansas MPS) 308 E. 6th, Fowler, 09000030

Riley County

Houston and Pierre Streets Residential Historic District (Late 19th and Early 20th Century Residential Resources in Manhattan, Kansas MPS), Bounded by S. 5th St., Pierre St., S. 9th St., and Houston St., Manhattan, 09000031

MASSACHUSETTS

Essex County

L.H. Hamel Leather Company Historic District, Bounded by Essex, Locke, Duncan, and Winter Sts., and the former Boston and Maine Railroad tracks, Haverhill, 09000032

Middlesex County

M.H. Merriam and Company, 7-9 Oakland St., Lexington, 09000033

MISSOURI

St. Louis Independent city

Central Carondelet Historic District (Boundary Increase II), Bounded by Iron St., Minnesota, Pennsylvania, and Holly Hills Aves., St. Louis, 09000034

Dreer, Dr. Herman S., House (The Ville, St. Louis, Missouri MPS), 4335 Cote Brilliante Ave., Saint Louis, 09000035

Phillips, Homer G., House (The Ville, St. Louis, Missouri MPS), 4524 Cottage Ave., St. Louis, 09000036

Turner, Dr. Charles Henry, House, (The Ville, St. Louis, Missouri MPS) 4540 Garfield Ave., Saint Louis, 09000037

NEW YORK

Cattaraugus County

House at 520 Hostageh Road, 520 Hostageh Rd., Rock City, 09000038

Suffolk County

Jamesport Meeting House, 1590 Main Rd., Jamesport, 09000039

Ulster County

Yeomans, Moses, House, 252-278 Delaware Ave., Kingston, 09000041

PUERTO RICO

Coamo Municipality

Puente de las Calabazas (Historic Bridges of Puerto Rico MPS), PR 14, km. 39.3, Cuyon Ward, Coamo, 09000042

SOUTH DAKOTA

Custer County

Hermosa Masonic Lodge, W. side of 2nd St., between Folsom St. and Hwy 40, Hermosa, 09000043

Hutchinson County

Tucek-Sykora Farmstead (Czech Folk Architecture in Southeastern South Dakota MRA), 28883 412th Ave., Tripp, 09000044

Lincoln County

Elster House, 27765 476th Ave., Canton, 09000045

VIRGINIA

Louisa County

Baker-Strickler House, 10074 W. Gordon Rd., Gordonsville, 09000046

WASHINGTON

King County

JOHN N. COBB (fisheries research vessel), NOAA NW Regional Office, 7600 Sand Point Way NE., Seattle, 09000047

WISCONSIN

Columbia County

Mills, Richard W. and Margaret, House, 104 Grand Ave., Lodi, 09000048

[FR Doc. E9-1666 Filed 1-26-09; 8:45 am]

BILLING CODE 4310-70-P